NUCLEAR REGULATORY COMMISSION

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a current valid OMB control number.

1. Type of submission, new, revision, or extension: Extension.

2. The title of the information collection: NRC Forms 540 and 540A, “Uniform Low-Level Radioactive Waste Manifest (Shipping Paper) and Continuation Page;” NRC Forms 541 and 541A, “Uniform Low-Level Radioactive Waste Manifest, Container and Waste Description, and Continuation Page;” NRC Forms 542 and 542A, “Uniform Low-Level Radioactive Waste Manifest, Index and Regional Compact Tabulation, and Continuation Page.”

3. The form number if applicable: NRC Forms 540 and 540A; NRC Forms 541 and 541A; and NRC Forms 542 and 542A.

4. How often the collection is required: Forms are used by shippers whenever radioactive waste is shipped. Quarterly or less frequent reporting is made to NRC depending on specific license conditions.

5. Who will be required or asked to report: All NRC-licensed low-level waste facilities. All generators, collectors, and processors of low-level waste intended for disposal at a low-level waste facility must complete the appropriate forms.

6. An estimate of the number of annual responses:

NRC Form 540 and 540A: 13,400 licensees.

NRC Form 541 and 541A: 13,400 licensees.

NRC Form 542 and 542A: 756 licensees.

7. The estimated number of annual respondents:

NRC Form 540 and 540A: 2,500 licensees.

NRC Form 541 and 541A: 2,500 licensees.

NRC Form 542 and 542A: 22 licensees.

8. An estimate of the total number of hours needed annually to complete the requirement or request:

NRC Form 540 and 540A: 10,050 (.75 hours per response).

NRC Form 541 and 541A: 44,341 (3.3 hours per response).

NRC Form 542 and 542A: 567 (.75 hours per response).

9. An indication of whether Section 3507(d), Pub. L. 104-13 applies: Not applicable.

10. Abstract: NRC Forms 540, 541, and 542, together with their continuation pages, designated by the “A” suffix, provide a set of standardized forms to meet Department of Transportation (DOT), NRC, and State requirements. The forms were developed by NRC at the request of low-level waste industry groups. The forms provide uniformity and efficiency in the collection of information contained in manifests which are required to control transfers of low-level radioactive waste intended for disposal at a land disposal facility. NRC Form 540 contains information needed to satisfy DOT shipping paper requirements in 49 CFR Part 172 and the waste tracking requirements of NRC in 10 CFR Part 20. NRC Form 541 contains information needed by disposal site facilities to safely dispose of low-level waste and information to meet NRC and State requirements regulating these activities. NRC Form 542, completed by waste collectors or processors, contains information which facilitates tracking the identity of the waste generator. That tracking becomes more complicated when the waste forms, dimensions, or packagings are changed by the waste processor. Each container of waste shipped from a waste processor may contain waste from several different generators. The information provided on NRC Form 542 permits the States and Compacts to know the original generators of low-level waste, as authorized by the Low-Level Radioactive Waste Policy Amendments Act of 1985, so they can ensure that waste is disposed of in the appropriate Compact.

A copy of the final supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions should be directed to the OMB reviewer listed below by May 21, 2007. Comments received after this date will be considered if it is practical to do so, but assurance of consideration cannot be given to comments received after this date.

Margaret Malanoski, OMB Desk Officer, Office of Information and Regulatory Affairs (3150-0164, -0166, & -0165), NEOB-10202, Office of Management and Budget, Washington, DC 20503.

Comments can also be e-mailed to Margaret_A._Malanoski@omb.eop.gov or submitted by telephone at (202) 395-3087.

The NRC Clearance Officer is Margaret A. Janney, 301-415-7245.

Dated at Rockville, Maryland, this 13th day of April 2007.
For the Nuclear Regulatory Commission.
Margaret A. Janney,
NRC Clearance Officer, Office of Information Services.

[FR Doc. E7-7533 Filed 4-19-07; 8:45 am]

BILLING CODE 7590-01-P